DEPARTMENT OF LABOR

Employment and Training Administration

[TA-W-64,135]

Panasonic Electronic Devices Corporation of America, General and Administrative, Production Engineering, Switch Engineering, Including On-Site Leased Workers From Express Employment Professionals and Johnson Service Group, Knoxville, TN; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on October 14, 2008, applicable to workers of Panasonic Electronic Devices Corporation of America, General and Administrative, Production Engineering, Switch Engineering, including on-site leased workers from Express Employment Professionals, Knoxville, Tennessee. The notice was published in the Federal Register on October 21, 2008 (73 FR 62324).

At the request of the State agency, the Department reviewed the certification for workers of the subject firm. The workers provide general and administrative services, production engineering, and switch engineering for the Panasonic speaker manufacturing facility in Knoxville, Tennessee.

New information provided by the company shows that workers leased from Johnson Service Group were employed on-site at Panasonic Electronic Devices Corporation of America, General and Administrative, Production Engineering, Switch Engineering, Knoxville, Tennessee.

The intent of the Department's certification is to include all workers at the subject firm who were adversely affected by the shift in production of speakers to Mexico.

The Department has determined that these workers were sufficiently under the control of Panasonic Electronic Devices Corporation of America to be considered leased workers.

Based on these findings, the Department is amending this certification to include workers leased from Johnson Service Group working on-site at Panasonic Electronic Devices Corporation of America, General and Administrative, Production Engineering, Switch Engineering, Knoxville, Tennessee.

The amended notice applicable to TA-W-64,135 is hereby issued as follows:

“All workers of Panasonic Electronic Devices Corporation of America, General and Administrative, Production Engineering, Switch Engineering, Knoxville, Tennessee, including on-site leased workers from Express Employment Professionals and Johnson Service Group, who became totally or partially separated from employment on or after September 29, 2007 through October 14, 2010, are eligible to apply for adjustment assistance under Section 223 of the Trade Act of 1974, and are also eligible to apply for alternative trade adjustment assistance under Section 246 of the Trade Act of 1974.”

Signed in Washington, DC, this 11th day of March 2009.
Elliott S. Kushner,
Certifying Officer, Division of Trade Adjustment Assistance.

[FR Doc. E9-6236 Filed 3-20-09; 8:45 am]

BILLING CODE 4510-FN-P